DEPARTMENT OF COMMERCE

National Oceanic and Atmospheric Administration

National Sea Grant College Program (NSGCP) Notice of Solicitation of Letters of Intent

AGENCY: National Oceanic and Atmospheric Administration (NOAA), Office of Oceanic and Atmospheric Research (OAR), Department of Commerce (DOC).

ACTION: Notice of solicitation of letters of intent to apply to become the Guam Sea Grant Institutional Program.

SUMMARY: The National Sea Grant College Program is requesting letters of intent from eligible applicants to become a Sea Grant Institutional Program serving the United States territory of Guam. An Institutional Program can be defined as a program that has demonstrated competence as a Coherent Area Program and has shown the ability to support broad responsibilities for the development of Sea Grant state, regional, and national activities, engaging all of the institutions of higher learning in the region. Only institutions that have been the host entity of a Sea Grant Coherent Area Program for at least three years are eligible to apply. The National Sea Grant College Act of 1976, as amended by 33 U.S.C. 1121 et seq. (the “Act” hereinafter) authorizes the NOAA to designate a Sea Grant institution on the basis of merit and that such designation is consistent with the goals of the Act.

DATES: Letters of intent must be received by March 11, 2021.

ADDRESSES: Letters of intent will be accepted by email to oar.sg.info-admin@noaa.gov. Please put “Guam Institutional Program” in the Subject line. All letters of intent will be acknowledged. If you do not receive an acknowledgement of your letter of intent within five days of sending it, please contact us using the information below.

SUPPLEMENTARY INFORMATION: Currently, 34 Sea Grant Programs are located in every coastal and Great Lakes state, Guam and Puerto Rico. These Programs are partnerships between the Federal government and universities or other institutions with higher learning mandates, funded by Federal grants. More information about the National Sea Grant College Program can be found at http://seagrant.noaa.gov/. There is currently no Sea Grant Program whose main area of service is Guam that has been recognized with Institutional or College status.

To be eligible to apply to this solicitation, an institution must have been the host entity of a Sea Grant Coherent Area Program for a minimum of three years. A “Coherent Area Program” is a grant-funded program selected by NOAA in order to conduct Sea Grant activities limited in geographic area and/or scope. All Coherent Area Programs are subject to Sea Grant review procedures and are periodically evaluated against Sea Grant project evaluation criteria.

A letter of intent must include the following information: A non-binding statement of intent to submit a full application to be considered for a Guam Institutional Sea Grant Program;

—Identification (name, address, and type of organization) of the institution, or group of institutions, that will submit the full application;

—Affirmation that the sender of the letter is authorized to represent that institution or group in seeking designation as an Institutional Sea Grant Program;

—Name and contact details (including email address) of the person to whom correspondence should be sent.

Eligible applicants who submit a letter of intent will be provided a complete information package on how to prepare and submit a full application, the criteria against which the application will be evaluated (which are drawn from regulation at 15 CFR 918.3 “Eligibility, qualifications, and responsibility of a Sea Grant College”), the evaluation procedure (which may include both document review and a site visit), and the conditions on the institution or group that are associated with accepting Sea Grant Institutional Program status.

Contact Information: For any additional questions concerning this solicitation, please contact Rebecca Briggs at 301-734-1084 or by email at rebecca.briggs@noaa.gov. Please put “Guam Institutional Status” in the subject line.

Dated: January 28, 2021.
David Holst,
Director Chief Financial Officer/CAO, Office of Oceanic and Atmospheric Research, National Oceanic and Atmospheric Administration.

[FR Doc. 2021-02579 Filed 2-8-21; 8:45 am]

BILLING CODE 3510-KA-P